POSTAL SERVICE

39 CFR Part 111

Shipping Address Label

AGENCY: Postal Service™.

ACTION: Proposed rule.

SUMMARY: The Postal Service is proposing to amend Mailing Standards of the United States Postal Service, Domestic Mail Manual (DMM®) in various sections to clarify the requirement of the service icon and service banner when a shipping address label is used.

DATES: Submit comments on or before January 4, 2024.

ADDRESSES: Mail or deliver written comments to the Director, Product Classification, U.S. Postal Service, 475 L'Enfant Plaza SW, Room 4446, Washington, DC 20260-5015. If sending comments by email, include the name and address of the commenter and send to PCFederalRegister@usps.gov, with a subject line of “Shipping Address Label”. Faxed comments are not accepted.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Steven Jarboe at (202) 268-7690, Devin Qualls at (202) 268-3287, or Garry Rodriguez at (202) 268-7281.

SUPPLEMENTARY INFORMATION: All submitted comments and attachments are part of the public record and subject to disclosure. Do not enclose any material in your comments that you consider to be confidential or inappropriate for public disclosure.

Currently, when a shipping address label is used, the standards provide it is recommended the service icon and service banner be included on the label. Effective October 1, 2023, pursuant to the Federal Register Notice (88 FR 54239-54240) the Postal Service added a new validation requirement to Barcode Quality (BQ), a metric underneath its Intelligent Mail® package barcode (IMpb®) noncompliance measurement. The final rule outlined that the information provided on the label and the data contained within the barcodes, including Service Type Codes (STCs) must align and be correct. As a result, the Postal Service is proposing to require the correct service indicator composed of the service icon and service banner be included when a shipping address label is used.

In addition, the Postal Service is proposing to require the hazardous materials icon in lieu of the service icon be included when a shipping address label is used on items containing mailable hazardous materials.

Any variance in the physical aspect of the label affixed to a parcel presented for mailing may subject the piece to the IMpb noncompliance fee.

The Postal Service is proposing to implement this change effective January 21, 2024.

We believe the proposed revision will enable the Postal Service to provide customers with a more efficient mailing experience.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Letters, Cards, Flats, and Parcels

* * * * *

202 Elements on the Face of a Mailpiece

* * * * *

3.0 Placement and Content of Mail Markings

* * * * *

3.3 Priority Mail Express and Priority Mail Markings

* * * * *

3.3.2 Priority Mail

[Revise the text of 3.3.2 to read as follows:]

Priority Mail pieces must have the basic price marking of “Priority Mail” printed in a prominent location on the address side. When a shipping address label is used, the basic required price marking must be printed as provided under 3.9.

* * * * *

3.5 First-Class Mail and USPS Marketing Mail Markings

3.5.1 Types of Markings

Mailpieces must be marked under the corresponding standards to show the class of service and/or price paid:

* * * * *

[Revise the text of item d to read as follows:]

d. When a shipping address label is used, the basic required price marking must be printed as provided under 3.9.

* * * * *

3.6 USPS Ground Advantage—Commercial Markings

3.6.1 Basic Markings

[Revise the last sentence of 3.6.1 to read as follows:]

* * * When a shipping address label is used, the basic required price marking must be printed as provided under 3.9.

* * * * *

3.7 Parcel Select, Bound Printed Matter, Media Mail, and Library Mail Markings

3.7.1 Basic Markings

[Revise the last sentence in the introductory text of 3.7.1 to read as follows:]

* * * When a shipping address label is used, the basic required price marking must be printed as provided under 3.9.

[Delete items a and b in their entirety.]

[Delete Exhibit 3.7.1 in its entirety.]

* * * * *

[Delete 3.9, Marking Hazardous Materials, and add new 3.9 to read as follows:]

3.9 Shipping Address Label Markings

3.9.1 General

When a shipping address label is used, it must include the correct service indicator composed of two elements, the service icon (except as provided under 3.9.2) and service banner. For information on the markings and specifications, see the Parcel Labeling Guide available on the PostalPro website at postalpro.usps.com/parcellabelingguide). Failure to comply may subject the piece to the IMpb noncompliance fee.

3.9.2 Hazardous Materials

When a shipping address label is used on items containing mailable hazardous materials, it must include the hazardous materials icon in lieu of the service icon as provided in the Parcel Labeling Guide.

* * * * *

[Add new 9.0 to read as follows:]

9.0 Hazardous Materials

9.1 General

Mailers must ensure that their packages meet all applicable markings under 3.0, and ancillary service endorsement requirements under 507.1.5.

9.2 Shipping Address Labels

When a shipping address label is used, the basic required price marking must be printed as provided under 3.9.

9.3 Additional Elements

All mailable hazardous materials must also include the applicable labels, markings, and tags, as required in Publication 52, Hazardous, Restricted, and Perishable Mail.

* * * * *

600 Basic Standards for All Mailing Services

601 Mailability

* * * * *

8.0 Hazardous, Restricted, and Perishable Mail

* * * * *

[Add a new 8.5 to read as follows:]

8.5 Hazardous Materials Labeling

All mailable hazardous materials must be marked as provided under 202.9.0 and include the applicable labels, markings, and tags, as required in Publication 52, Hazardous, Restricted, and Perishable Mail.

* * * * *

Colleen Hibbert-Kapler,
Attorney, Ethics and Legal Compliance.

[FR Doc. 2023-26483 Filed 12-4-23; 8:45 am]

BILLING CODE P